DEPARTMENT OF ENERGY

Federal Energy Regulatory Commission

[Project No. 2769-041]

Allegheny Electric Cooperative, Inc. and the Connecticut Bank and Trust Company, National Association; Notice of Application for Partial Transfer of License, and Soliciting Comments and Motions To Intervene

On June 22, 2012, Allegheny Electric Cooperative, Inc. (AECI) and The U.S. Bank National Association, (as successor in interest to The Connecticut Bank and Trust Company, National Association) (co-licensee) filed an application for partial transfer of license for the Raystown Lake Hydro Station Project No. 2769, located on the Raystown Branch of the Juniata River in Huntingdon County, Pennsylvania.

Applicants seek Commission approval to transfer the license for the Raystown Lake Hydro Station from AECI and the U.S. Bank National Association, (as successor in interest to The Connecticut Bank and Trust Company, National Association) co-licensee to AECI as sole licensee.

Applicants' Contact: Mr. David Dulick, General Counsel, Allegheny Electric Cooperative, Inc., 212 Locust Street, Harrisburg, PA 17101, phone (717) 233-5704. Mr. Robert Weinberg and Joshua Adrian, Ducan, Weinberg, Genzer & Pembroke, P.C., 1615 M Street NE., Washington, DC 20036, phone (202) 467-6370.

FERC Contact: Patricia W. Gillis (202) 502-8735, patricia.gillis@ferc.gov.

Deadline for filing comments and motions to intervene: November 21, 2012. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-2769) in the docket number field to access the document. For assistance, call toll-free 1-866-208-3372.

Dated: October 31, 2012.
Kimberly D. Bose,
Secretary.

[FR Doc. 2012-27008 Filed 11-5-12; 8:45 am]

BILLING CODE 6717-01-P